DEPARTMENT OF AGRICULTURE

Forest Service

Santa Fe National Forest; New Mexico; Amendment of the Land Management Plan for Santa Fe National Forest

AGENCY: Forest Service, USDA

ACTION: Notice of Forest Plan Amendment approval.

SUMMARY: James Melonas, the Forest Supervisor for the Santa Fe National Forest, Southwest Region, signed the final Record of Decision (ROD) for the amendment to the Santa Fe National Forest Land and Resource Management Plan (Forest Plan Amendment). The final ROD documents the rationale for approving the Forest Plan Amendment and is consistent with the Reviewing Officer's response to objections and instructions.

DATES: The date of the Santa Fe's Forest Plan Amendment for Geothermal Leasing is July 20, 2018. The Santa Fe's Forest Plan Amendment for Geothermal Leasing, Environmental Impact Statement (EIS), final ROD, and other supporting information, will be available for review at http://www.fs.usda.gov/projects/santafe/landmanagement/projects.

FOR FURTHER INFORMATION CONTACT: Larry Gore, Geologist, Santa Fe National Forest at 575-289-3264, ext. 2149. Individuals who use telecommunication devices for the deaf (TDD) may call the Federal Information Relay Service (FIRS) at 1-800-877-8339 between 8:00 a.m. and 8:00 p.m. (Eastern time), Monday through Friday.

SUPPLEMENTARY INFORMATION: The Forest Service, Southwestern Region, Santa Fe National Forest, prepared a Forest Plan Amendment for Geothermal Leasing. The purpose of the amendment is to implement discretionary and nondiscretionary leasing closures for geothermal resources. Pursuant to federal law, the Forest Service may reasonably regulate the use of the surface estate to minimize impacts on Forest Service surface resources. This amendment meets the purpose and need for the Proposed Action, while conforming to the requirements of the Energy Policy Act of 2005 (Pub. L. 109-580). This is to facilitate timely processing of geothermal lease applications and Forest Service policies intended to minimize impacts on surface resources.

A draft ROD and final EIS were released in December 2017, which were subject to a pre-decisional objection period. Two objections were received, with one being set aside from review in accordance with 36 CFR 218.10(7) and the Reviewing Officer's responses to the objection issues were signed by the Acting Deputy Regional Forester (as Reviewing Officer for the Regional Forester) in March 2018. The final ROD to approve the Forest Plan Amendment for Geotheral Leasing for the Santa Fe National Forest has now been signed, and is available at the website described above.

Responsible Official

The responsible official for the Santa Fe's Forest Plan Amendment for Invasive Plant Control on Santa Fe National Forest is James Melonas, Forest Supervisor, Santa Fe National Forest, 11 Forest Lane, Santa Fe, NM 87508.

Dated: May 9, 2018.
Chris French,
Associate Deputy Chief, National Forest System.

[FR Doc. 2018-13259 Filed 6-19-18; 8:45 am]

BILLING CODE 3411-15-P